ENVIRONMENTAL PROTECTION AGENCY

[EPA-HQ-OPPT-2019-0104; FRL-11588-01-OCSPP]

Safer Choice Partner of the Year Awards for 2024; Call for Submissions

AGENCY: Environmental Protection Agency (EPA).

ACTION: Notice.

SUMMARY: The Safer Choice program in the Environmental Protection Agency (EPA) is accepting submissions for its 2024 Safer Choice Partner of the Year Awards. EPA developed the Partner of the Year Awards to recognize the leadership contributions of Safer Choice partners and stakeholders who have shown achievement in the design, manufacture, promotion, selection, and use of products with safer chemicals, that further outstanding or innovative source reduction. EPA especially encourages submission of award applications that show how the applicant's work involving products with safer chemical ingredients promotes environmental justice, bolsters resilience to the impacts of climate change, results in cleaner air or water, improves drinking water quality, or advances innovation in packaging. Similar achievement in the design, manufacture, promotion, selection, and use of Design for the Environment (DfE)-certified products will also make an organization eligible for the Partner of the Year Awards.

DATES: Submissions are due on or before April 25, 2024.

ADDRESSES: Please submit materials by email to kirk.aerin@epa.gov and copy saferchoice_support@abtassoc.com. Candidates interested in learning more about the Partner of the Year Awards should refer to the Safer Choice website at https://www.epa.gov/saferchoice/safer-choice-partner-year-awards. The docket for this action, identified by docket information (ID) number EPA-HQ-OPPT-2019-0104, is available at https://www.regulations.gov. Additional information about dockets is available at https://www.epa.gov/dockets.

FOR FURTHER INFORMATION CONTACT: Aerin Kirk, Data Gathering and Analysis Division, Office of Pollution Prevention and Toxics, Environmental Protection Agency, Mail Code 7406M, 1200 Pennsylvania Ave. NW, Washington, DC 20460-0001; telephone number: (202) 564-9814; email address: kirk.aerin@epa.gov.

SUPPLEMENTARY INFORMATION:

I. Does this action apply to me?

You may be affected by this action if you are a Safer Choice program partner or stakeholder. The following list of North American Industrial Classification System (NAICS) codes is not intended to be exhaustive, but rather provides a guide to help readers determine whether this document applies to them. Affected entities may include:

• Other Basic Inorganic Chemical Manufacturing (NAICS code 325180).

• All Other Basic Organic Chemical Manufacturing (Primary) (NAICS code 325199).

• Pesticide and Other Agricultural Chemical Manufacturing (NAICS code 325320).

• Paint and Coating Manufacturing (NAICS code 325510).

• Adhesive Manufacturing (NAICS code 325520).

• Soap and Other Detergent Manufacturing (NAICS code 325611).

• Polish and Other Sanitation Good Manufacturing (NAICS code 325612).

• Surface Active Agent Manufacturing (Primary) (NAICS code 325613).

• Toilet Preparation Manufacturing (NAICS code 325620).

• Photographic Film, Paper, Plate, and Chemical Manufacturing (NAICS code 325992).

• All Other Miscellaneous Chemical Product and Preparation Manufacturing (NAICS code 325998).

• Service Establishment Equipment and Supplies Merchant Wholesalers (Primary) (NAICS code 423850).

• Other Chemical and Allied Products Merchant Wholesalers (Primary) (NAICS code 424690).

• Supermarkets and Other Grocery (except Convenience) Stores (Primary) (NAICS code 445110).

• All Other Specialty Food Stores (NAICS code 445299).

• Pharmacies and Drug Stores (NAICS code 446110).

• Office Supplies and Stationery Stores (NAICS code 453210).

• All Other Miscellaneous Store Retailers (except Tobacco Stores) (Primary) (NAICS code 453998).

• Electronic Shopping and Mail-Order Houses (NAICS code 454110).

• Research and Development in Biotechnology (except Nanobiotechnology) (Primary) (NAICS code 541714).

• Facilities Support Services (NAICS code 561210). Janitorial Services (NAICS code 561720).

• Carpet and Upholstery Cleaning Services (NAICS code 561740).

• Elementary and Secondary Schools (NAICS code 611110).

• Colleges, Universities, and Professional Schools (NAICS code 611310).

• Promoters of Performing Arts, Sports, and Similar Events with Facilities (NAICS code 711310).

• Drycleaning and Laundry Services (NAICS code 8123).

• Civic and Social Organizations (Primary) (NAICS code 813410).

• Business Associations (Primary) (NAICS code 813910).

• Other General Government Support (NAICS code 921190).

• Administration of Air and Water Resource and Solid Waste Management Programs (Primary) (NAICS code 924110).

II. What is the Safer Choice program?

As part of its environmental mission, the Safer Choice program partners with businesses to help consumers and commercial buyers identify products with safer chemical ingredients, without sacrificing quality or performance. The Safer Choice program certifies products containing ingredients that have met the program's specific and rigorous human health and environmental toxicological criteria. The Safer Choice program allows companies to use its label on certified products that contain safer ingredients and perform, as determined by expert evaluation. The Safer Choice program certification represents a high level of achievement in formulating products that are safer for people and the environment. For more information on the Safer Choice program, please see: https://www.epa.gov/saferchoice.

III. What is the DfE program?

The DfE program is a companion program to Safer Choice and certifies antimicrobial products. The DfE logo may be used on certified products and helps consumers and commercial buyers identify products that meet the health and safety standards of the pesticide registration process required by the Federal Insecticide, Fungicide, and Rodenticide Act (FIFRA) as well as the Safer Choice program's stringent criteria for efficacy and effects on human health and the environment. For more information on the DfE program, please see: https://www.epa.gov/pesticide-labels/learn-about-design-environment-dfe-certification.

IV. What is the purpose of the award?

The purpose of the Partner of the Year Awards is to recognize the leadership contributions of Safer Choice program partners and stakeholders who, over the past year, have shown achievement in the design, manufacture, promotion, selection, and use of products with safer chemicals, that further outstanding or innovative source reduction. EPA especially encourages submission of award applications that show how the applicant's work involving products with safer chemical ingredients promotes environmental justice, bolsters resilience to the impacts of climate change, results in cleaner air or water, improves drinking water quality, or advances innovation in packaging. Similar achievement in the design, manufacture, promotion, selection, and use of Design for the Environment (DfE)-certified products will also make an organization eligible for the Partner of the Year Awards.

V. How can I participate?

All Safer Choice stakeholders and program participants in good standing are eligible for recognition. Interested parties who would like to be considered for this award should submit to EPA an application detailing their accomplishments and contributions during calendar year 2023. The application form is available on the Safer Choice website. Candidates interested in learning more about the Partner of the Year Awards should refer to the following link: https://www.epa.gov/saferchoice/safer-choice-partner-year-awards. EPA will recognize award winners at a Safer Choice Partner of the Year Awards ceremony later in 2024.

Authority: 42 U.S.C. 13103(b)(13) and 15 U.S.C. 2609.

Dated: January 26, 2024.
Michal Freedhoff,
Assistant Administrator, Office of Chemical Safety and Pollution Prevention.

[FR Doc. 2024-01909 Filed 1-30-24; 8:45 am]

BILLING CODE 6560-50-P